DEPARTMENT OF HEALTH AND HUMAN SERVICES

Public Listening Session To Inform the Development of the National Youth Sports Strategy

AGENCY: Office of Disease Prevention and Health Promotion, Office of the Assistant Secretary for Health, Office of the Secretary, Department of Health and Human Services.

ACTION: Notice.

SUMMARY: The Department of Health and Human Services (HHS) provides notice of a public listening session; invites the public to attend; and solicits request to provide oral remarks to inform the development of the National Youth Sports Strategy.

DATES: The meeting for the public to provide oral remarks to HHS will be held on Thursday, April 4, 2019, from 9:00 a.m. to 5:00 p.m. E.D.T.

ADDRESSES: Those providing public oral remarks to HHS are required to attend the listening session in-person at the Hubert H. Humphrey Building, Auditorium, 200 Independence Ave. SW, Washington, DC 20201. Others wanting to attend can do so in-person or via webcast on the internet.

FOR FURTHER INFORMATION CONTACT: Katrina L. Piercy, Ph.D., R.D., Office of Disease Prevention and Health Promotion (ODPHP), Office of the Assistant Secretary for Health (OASH), HHS; 1101 Wootton Parkway, Suite LL-100; Rockville, MD 20852; Telephone: (240) 453-8280. Email: odphpinfo@hhs.gov.

SUPPLEMENTARY INFORMATION: Executive Order 13824 directs the development of a National Strategy on Youth Sports and outlines the key pillars that the strategy will address. The Office of Disease Prevention and Health Promotion, in collaboration with the President's Council on Sports, Fitness & Nutrition, Centers for Disease Control and Prevention, and National Institutes of Health, is leading the development of this strategy.

Key Pillars of Youth Sports Strategy

1. Increase awareness of the benefits of participation in sports and regular physical activity, as well as the importance of good nutrition;

2. Promote private and public sector strategies to increase participation in sports, encourage regular physical activity, and improve nutrition;

3. Develop metrics that gauge youth sports participation and physical activity to inform efforts that will improve participation in sports and regular physical activity among young Americans; and

4. Establish a national and local strategy to recruit volunteers who will encourage and support youth participation in sports and regular physical activity, through coaching, mentoring, teaching, or administering athletic and nutritional programs.

Agenda: The agenda will include opportunity for the public to provide oral remarks to HHS and to hear an update about this project from HHS.

Submitting a Request to Speak: HHS requests applications from organizations to speak at the April 4, 2019 listening session. There are a limited number of speaking slots available. Length of presentation will be determined based on interest and is anticipated to be approximately 15 minutes per organization, including time for comments or questions. HHS is interested in hearing from organizations that have experience and expertise in one or more of the following areas: Benefits and barriers to youth sports participation, private and public strategies to improve youth sports participation, measurement of youth sports participation, and strategies to recruit and train youth sports coaches. Organizations working with underrepresented populations (e.g., girls, low socioeconomic status, racial/ethnic minorities, youth with disabilities, etc.), and groups with evaluation metrics to support programs are encouraged to apply. Submissions must be emailed to sports@hhs.gov by 11:59 p.m. E.D.T on Thursday, March 21, 2019 with the subject line “Application to Speak at Public Meeting.” Submissions must include speaker's name, title, organization, contact information, and a written outline of the intended remarks not exceeding 500 words. Selected speakers will receive email confirmation with further instructions for participation. Selected speakers will be compensated for travel.

Meeting Registration: The meeting will be publicly accessible in-person and by webcast on the internet. Registration is required for both in-person attendance and webcast viewing and is expected to open on March 11, 2019. Registration information is available at: https://events.kauffmaninc.com/events/sportslisteningsession/register/

In-Person Public Participation: The meeting will be held in the Hubert H. Humphrey Building Auditorium, located on the first floor, as noted above in the Addresses section. Individuals will need to bring a government-issued photo identification for the security screening and will check-in at the registration desk onsite. All individuals speaking at the meeting will need to attend in-person.

Webcast Participation: After registering, webcast access information will be sent via email.

Dated: March 4, 2019.
Don Wright,
Deputy Assistant Secretary for Health, Disease Prevention and Health Promotion.

[FR Doc. 2019-04733 Filed 3-13-19; 8:45 am]

BILLING CODE 4150-32-P